DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2007.

Last name | First name | Middle name/ initials
ANDO | TAMIE
MCBRIDE | PRISCILLA | REYNOLDS
EAGERLAND | ROY | MARVIN
BELL | ALAN | W.
PAYNE | JOHN | R.
DAI | QIANG
TSAI | VIVIAN | CHUNG-HO
KIM | BOKNYO
MEERT | DENIS | E.
LINDBERG | ANNA | H.
SOKOL | ANDRE | AKIRA GUSTAVE
MORE | ALEXANDER | LINDHARDT
RIABOKON | VLADIMIR
HAND | JEREMY
LEE | LINDA | Y.
RIESTERER | ROLF
GROBEL | ANNA | RENATA
KIM | LISA
RIESTERER | BERTA | M.
YONAHA | TATSUSHIGE
YONAHA | AIMI
JOHNSON | JOE
BANKES | SHERILYN | HEALD
TSOU | WAYNE | WEN-TSUI
RAPHAEL | THOMAS | GEOFFREY
GIVENS | CHRISTOPHER | BRUCE
TEO | HIS | LEANG
FISHER | RODNEY | BRIAN NEVILLE
ZAKARDJIAN | BRIGITTE | MARTINE
SHOHAT | MICHAEL
BEST | DAVID | GRAHAM
LALOE | JEAN-LUC | MICHEL
MINI | JUAN | FRANCISCO
BOYCE | EDWARD | R.
LALOE | DOMINIQUE | MARIE
ODDSSON | ALFUR | KONRAD
BODMER | RUDOLF
KASSIN | RAPHAEL | JORDAN
STAHL | JAMES | GREGORY
ESTEY | GEORGE | C.
KAKIAGE | MASATOSHI
ESTEY | DOONE | P.
MILOJEVIC | ZELJKO
WINTER | WILLEM | A.
TANG | ZHENGYU
WINTER | TRUDY | T.
KAVANAGH | KATHLEEN
BROWN | JOHN | H.
HILL | ALICE | EDDY
CARTER | ROBERT | S.
LIM | LOONG | KENG
KOSKI | CHRISTOPHER
THILLAIMUTHU | LAUREN
MEDINA | LARRY | CHARLES
THILLAIMUTHU | KUMARASINGHAM
DEFARES | ROBERT | HANS
SIDDIQUI | AHMAD | SAEED
VAKILI | PARISA
THILLAIMUTHU | CHRISTINE
BELLINGER | CHRISTOPHE
YANG | WINNIE | S.
FOK | GLENN
HABER | MARC | PHILIP
LEE | HOUGHTON
SETHE | TINA | VON
LUDWAR | MARGOT | PEARCE
GERBER | DANIEL | JONATHON
CATO | HELEN | PEEPLES
TAN | NATALIA | TANWIR
YU | DAVID | HO-WAI
KAKIAGE | YAYOI
SIH | CHANG | LOO
WONG | LINCOLN | TENG
SIH | TANIA | MARIA
BEAUMAN | CHRISTOPHER
CROCKER | AMANDA | JEAN BUSBEE
SCOTT | PHILLIPA | CHANTAL
SULLIVAN | DESMOND | GODFREY
SCHOTANUS | DIRK
SCHOTANUS | AMERENS
COYLE | HEDI
HONG | MAK | WING
TSENG | HING-FUNG | FRANKLIN
WALKER | TREVOR | M.
PALMER | STEPHEN | JOHN
LAW | JOYCE | C.
LOCHEAD | BRIAN | G.
THEODOROPOULOS | STEPHEN | T.
VON KLEYDORFF | URSULA
CHAUNCEY | EVELYN | JOY
ONG | TIMOTHY | ZHONG-WEI
CIFUENTES | REBECCA | L.
GO | SWAN | KHING
TYRRELL | SIMON | JOHN BALY
CHAN | SIMON | CHAMMAN
DAVID | NADINE | BAUDIN
LAM | WINDY | SUET KWAN
CHUNG | KWOK-KEUN
HEIDER | ANDREA
RANDOLPH | GAYE | F.
BELAMARIC | MARK
BURGES | ROSEMARIE | CATHERINE
LAURENTI | MAURICE | L.
ARNOLD | CONNIE | ANN
MEESE | EVA
MEESE | GERHARD
RAMSAY | JOHN | W.
KELDER | MAARTEN | A.
EHLERT | SANDRA
PHILIPP | THOMAS | L.
CALVERT | CHRISTOPHER | JOHN
POETON | WILLIAM | G.
ODIER | CAMILLE | ALEXANDRA
SORSBIE | CAMILLA | J.

Dated: July 25, 2007.
Linda Tomlinson,
Manager Team 103, Examinations Operations, Philadelphia Compliance Services.

[FR Doc. E7-15270 Filed 8-6-07; 8:45 am]

BILLING CODE 4830-01-P